DEPARTMENT OF COMMERCE

National Oceanic and Atmospheric Administration

[I.D. 041001D]

Antarctic Marine Living Resources Convention Act of 1984; Conservation and Management Measures

AGENCY: National Marine Fisheries Service (NMFS), National Oceanic and Atmospheric Administration (NOAA), Commerce.

ACTION: Final notice.

SUMMARY: At its Nineteenth Meeting in Hobart, Tasmania, October 23 to November 3, 2000, the Commission for the Conservation of Antarctic Marine Living Resources (CCAMLR), of which the United States is a member, adopted conservation measures, pending members’ approval, pertaining to fishing in the CCAMLR Convention Area in Antarctic waters. These were agreed upon in accordance with Article IX of the Convention for the Conservation of Antarctic Marine Living Resources.

ADDRESSES: Copies of the CCAMLR measures and the framework environmental assessment may be obtained from the Assistant Administrator for Fisheries, NOAA, National Marine Fisheries Service, 1315 East-West Highway, Silver Spring, MD 20910.

FOR FURTHER INFORMATION CONTACT: Robin Tuttle, 301-713-2282.

SUPPLEMENTARY INFORMATION: See 50 CFR part 300, subpart G-Antarctic Marine Living Resources, and the Department of State’s notice at 66 FR 7527, January 23, 2001.

The measures restrict overall catches and bycatch of certain species of fish, krill, squid, and crab; limit participation in several exploratory fisheries; restrict fishing in certain areas and to certain gear types; set fishing seasons; amend the catch documentation scheme for Dissostichus species; add to the procedures for minimizing the incidental take of seabirds in longline fishing; make technical amendments to the conservation measures related to research activities; and amend previously adopted measures relating to reporting requirements, licensing and inspection obligations of Contracting Parties, cooperation between Contracting Parties, and the use of automated satellite-linked vessel monitoring systems (VMS) on Contracting Party vessels fishing in the Convention Area. The Commission also adopted resolutions urging action with respect to illegal fishing and the implementation of the Catch Documentation Scheme for Dissostichus species.

The measures and resolutions were announced by the Department of State by a preliminary notice in the Federal Register on January 23, 2001. Public comments were invited, but none were received. NMFS implements these measures by this final notice, consistent with the framework process specified in the International Fisheries Regulations (50 CFR 300.111).

CCAMLR approved several fisheries as exploratory fisheries for the 2000/2001 fishing season. These fisheries are limited total allowable catch (TAC) fisheries and, with the exception of an exploratory fishery for M. hyadesi in Statistical Subarea 48.3 open to all Contracting Party vessels, are open only to the flagged vessels of the countries that notified CCAMLR of an interest by participants in the fisheries. The United States was not a notifying country, and, thus, U.S. fishers are not eligible to participate in them. The exploratory fisheries are for longline fishing for Dissostichus species in Statistical Subarea 48.6 by Argentina, Brazil and South Africa; trawl fishing on the BANZARE Bank by Australia; longline fishing for Dissostichus species on BANZARE Bank outside areas under national jurisdiction by Argentina and France; trawl fishing for Dissostichus species on Elan Bank (Statistical Division 58.4.3) by Australia; longline fishing for Dissostichus species on Elan Bank (Statistical Division 58.4.3) outside areas of national jurisdictions by Australia and France; trawl fishing for Dissostichus species in Statistical Division 58.4.2 by Australia; longline fishing for Dissostichus species in Statistical Division 58.4.4 by Argentina, Brazil, France, South Africa, Ukraine and Uruguay; longline fishing for Dissostichus eleginoides in Statistical Subarea 58.6 by Argentina, France and South Africa; longline fishing for Dissostichus species in Statistical Subareas 88.1 by New Zealand, South Africa and Uruguay; longline fishing for Dissostichus species in Statistical Subarea 88.2 by South Africa and Uruguay; and trawl fishing for Chaenodraco wilsoni, Lepidonotothen kempi, Trematomus eulepidotus and Pleuragramma antarcticum in Statistical Division 58.4.2 by Australia.

Participation in the Convention Area crab fishery continues to be limited to one vessel per Commission member. Applications for a crab permit must be received no later than 90 days prior to intended harvesting and will be considered in the order of application. If there are multiple applicants, the one U.S. crab permit will be issued on the basis of (1) order of receipt of applications (2) criteria for harvesting permits appearing in 50 CFR 300.112 (3) willingness to participate in CCAMLR pilot programs and (4) record of previous participation, if any, in the crab fishery.

The Commission amended the conservation measure and Explanatory Memorandum for the Catch Documentation Scheme for Dissostichus species to improve the catch document and clarify the memorandum.

The Commission also amended the conservation measure specifying aspects of cooperation among Contracting Parties so that vessels known to be engaged in illegal, unregulated or unreported fishing must be denied port access, other than for emergency purposes.

The Commission revised the procedures for minimizing the incidental mortality of seabirds in the course of longline fishing or longline fishing research in two ways. One, by requiring that vessels using the Spanish method of longline fishing release weights before line tension occurs and use weights of at least 8.5 kg mass, spaced at intervals of no more than 40 meters, or 6 kg mass spaced at intervals of no more than 20 meters. Two, by requiring that vessels unable to process or retain offal on board, or discharge offal on the opposite side of the vessel, not be authorized to fish in the Convention area.

The Commission amended the 5-day catch and effort reporting system by requiring that vessels failing to comply with the requirement cease fishing.

The Commission updated the general measure for exploratory fisheries for Dissostichus species to include changes to the Research Plan and bycatch limits.

The Commission approved minor technical revisions to management plans for CCAMLR Ecosystem Management Sites at Cape Shirreff and Seal Islands and added a catch limit on the take of Dissostichus species by any type of fishing gear during research fishing.

CCAMLR adopted four new resolutions relating to illegal fishing and implementation of the catch documentation scheme for Dissostichus species. These were a resolution urging all Contracting Parties to avoid flagging a non-Contracting Party vessel or licensing such a vessel to fish in waters under their fisheries jurisdiction, if that particular vessel has a history of engagement in illegal, unregulated or unreported fishing; urging all Acceding States and non-Contracting Parties not participating in the Catch Documentation Scheme which fish for, or trade in, Dissostichus species to implement the Scheme as soon as possible; urging all Contracting Parties where they are unable to provide an authorized Flag State official(s) to monitor a landing for the purposes on validating Dissostichus Catch Documents, to discourage their flag vessels authorized to fish for longline fishing for Dissostichus species from using ports of Acceding States and non-Contracting Parties which are not implementing the Catch Document Scheme; and agreeing that, on a voluntary basis, subject to their laws and regulations, Flag States participating in the Catch Document Scheme for Dissostichus species should ensure that their flag vessels authorized to fish for or transship Dissostichus species on the high seas maintain an operational vessel monitoring system throughout the whole calendar year.

Authority: 16 U.S.C. 2431 et seq.

Dated: April 12, 2001.
Clarence Pautzke,
Acting Deputy Assistant Administrator for Regulatory Programs, National Marine Fisheries Service.

[FR Doc. 01-9648 Filed 4-18-01; 8:45 am]

BILLING CODE 3510-22-S